NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on December 2-4, 2004, 11545 Rockville Pike, Rockville, Maryland. The date of this meeting was previously published in the Federal Register on Monday, November 21, 2003 (68 FR 65743).

Thursday, December 2, 2004, Conference Room T-2B3, Two White Flint North, Rockville, Maryland

8:30 a.m.-8:35 a.m.: Opening Remarks by the ACRS Chairman (Open)—The ACRS Chairman will make opening remarks regarding the conduct of the meeting.

8:35 a.m.-10 a.m.: Expert Elicitation on Large-Break LOCA Frequencies (Open)—The Committee will hear presentations by and hold discussions with representatives of the NRC staff regarding the draft predecisional NUREG-XXX, “Estimating Loss-of-Coolant Accident (LOCA) Frequencies Through the Elicitation Process,” and the conclusions and recommendations of the Expert Elicitation Panel.

10:15 a.m.-11:45 a.m.: Proposed Rule for Risk-Informing 10 CFR 50.46 (Open)—The Committee will hear presentations by and hold discussions with representatives of the NRC staff regarding the proposed rule for risk-informing 10 CFR 50.46, “Acceptance Criteria for Emergency Core Cooling Systems for Light-Water Nuclear Power Reactors.”

12:45 p.m.-2:45 p.m.: Technical Basis for Potential Revision of the Pressurized Thermal Shock (PTS) Screening Criteria in the PTS Rule (Open)—The Committee will hear presentations by and hold discussions with representatives of the NRC staff regarding the technical basis for potential revision of the PTS screening criteria in the PTS rule.

3 p.m.-4:30 p.m.: Preparation of ACRS Reports (Open)—The Committee will discuss proposed ACRS reports on matters considered during this meeting.

4:45 p.m.-7 p.m.: Safeguards and Security Matters (Closed)—The Committee will hear presentations by and hold discussions with representatives of the NRC staff regarding safeguards and security matters.

Friday, December 3, 2004, Conference Room T-2B3, Two White Flint North, Rockville, Maryland

8:30 a.m.-8:35 a.m.: Opening Remarks by the ACRS Chairman (Open)—The ACRS Chairman will make opening remarks regarding the conduct of the meeting.

8:35 a.m.-9 a.m.: Peer Review Comments on the Technical Basis for Revising the PTS Screening Criteria (Open)—The Committee will hold discussions with the Chairman of the Peer Review Panel, as needed, regarding the Panel's comments on the technical basis for potential revision of the PTS screening criteria.

9 a.m.-10:30 a.m.: Draft Commission Paper on Technology Neutral Framework for Future Plant Licensing—Policy Issues (Open)—The Committee will hear presentations by and hold discussions with representatives of the NRC staff regarding the draft Commission Paper on “Regulatory Structure for New Plant Licensing, Part 1: Technology Neutral Framework—Policy Issues.”

10:45 a.m.-11 a.m.: Subcommittee Report (Open)—The Committee will hear a report by the Chairman of the ACRS Subcommittee on Reliability and Probabilistic Risk Assessment regarding the status of development of the draft NUREG document on Treatment of Uncertainties.

11 a.m.-11:15 a.m.: Subcommittee Report (Open)—The Committee will hear a report by the Chairman of the ACRS Subcommittee on Plant License Renewal regarding interim review of the license renewal application for the Arkansas Nuclear One, Unit 2 Nuclear Power Plant.

11:15 a.m.-11:45 a.m.: Election of ACRS Officers for CY 2005 (Open)—The Committee will elect Chairman and Vice Chairman for the ACRS and Member-at-Large for the Planning and Procedures Subcommittee for CY 2005.

1:45 p.m.-2:45 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2:45 p.m.-3 p.m.: Reconciliation of ACRS Comments and Recommendations (Open)—The Committee will discuss the responses from the NRC Executive Director for Operations (EDO) to comments and recommendations included in recent ACRS reports and letters. The EDO responses are expected to be made available to the Committee prior to the meeting.

3:15 p.m.-7 p.m.: Preparation of ACRS Reports (Open/Closed)—The Committee will discuss proposed ACRS reports.

Saturday, December 4, 2004, Conference Room T-2B3, Two White Flint North, Rockville, Maryland

8:30 a.m.-12:30 p.m.: Preparation of ACRS Reports (Open/Closed)—The Committee will continue its discussion of proposed ACRS reports.

12:30 p.m.-1 p.m.: Miscellaneous (Open)—The Committee will discuss matters related to the conduct of Committee activities and matters and specific issues that were not completed during previous meetings, as time and availability of information permit.

Procedures for the conduct of and participation in ACRS meetings were published in the Federal Register on October 5, 2004 (69 FR 59620). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Pub. L. 92-463, I have determined that it is necessary to close portions of this meeting noted above to discuss and protect information classified as national security information and safeguards information pursuant to 5 U.S.C. 552b(c)(1) and (3).

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., e.t.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., e.t., at least 10 days before the meeting to ensure the availability of this service.

Individuals or organizations requesting this service will be responsible for telephone line charges and for providing the equipment and facilities that they use to establish the videoteleconferencing link. The availability of videoteleconferencing services is not guaranteed.

The ACRS meeting dates for Calendar Year 2005 are provided below:

ACRS meeting No. | Meeting dates
| January 2005 (No meeting).
519 | February 10-12, 2005.
520 | March 3-5, 2005.
521 | April 7-9, 2005.
522 | May 5-7, 2005.
523 | June 1-3, 2005.
524 | July 6-8, 2005.
| August 2005 (No meeting).
525 | September 8-10, 2005.
526 | October 6-8, 2005.
527 | November 3-5, 2005.
528 | December 8-10, 2005.

Dated: November 18, 2004.
Andrew L. Bates,
Advisory Committee Management Officer.

[FR Doc. 04-26005 Filed 11-23-04; 8:45 am]

BILLING CODE 7590-01-P